DEPARTMENT OF EDUCATION

Applications for New Awards: Technical Assistance and Dissemination To Improve Services and Results for Children With Disabilities; Early Childhood Technical Assistance Center

AGENCY: Office of Special Education and Rehabilitative Services, Department of Education.

ACTION: Notice.

Overview Information Technical Assistance and Dissemination To Improve Services and Results for Children With Disabilities—Early Childhood Technical Assistance Center

Notice inviting applications for new awards for fiscal year (FY) 2012.

Catalog of Federal Domestic Assistance (CFDA) Number: 84.326P.

DATES: Applications Available: June 19, 2012.

Deadline for Transmittal of Applications: July 19, 2012.

Full Text of Announcement

I. Funding Opportunity Description

Purpose of Programs: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute or otherwise authorized in the statute (see sections 663 and 681(d)of the Individuals with Disabilities Education Act (IDEA), 20 U.S.C. 1463 and 1481(d)).

Absolute Priority: For FY 2012 and any subsequent year in which we make awards from the list of unfunded applicants from this competition, this priority is an absolute priority. Under 34 CFR 75.105(c)(3) we consider only applications that meet this priority.

This priority is: Early Childhood Technical Assistance Center. Background: The Office of Special Education Programs (OSEP) is committed to ensuring that all infants, toddlers, and preschool children with disabilities receive effective services in natural environments and inclusive settings that promote positive developmental and learning outcomes. Effective services depend on: (1) The quality of early intervention programs authorized under Part C of IDEA and preschool programs authorized under Part B of IDEA; (2) the coordination of these programs with each other and with other early childhood programs that serve infants, toddlers, and preschool children with disabilities and their families; and (3) the capacity of early childhood programs to scale up and sustain effective implementation components to support the use of evidence-based interventions at the local program level. OSEP has supported the implementation of IDEA Part C early intervention services and Part B preschool services by funding technical assistance (TA) centers that have helped States strengthen their State and local systems and build the capacity of providers to improve developmental and learning outcomes for infants, toddlers, and preschool children with disabilities and their families. OSEP will further this work by funding a cooperative agreement to support the establishment and operation of an Early Childhood Technical Assistance Center (Center). The Center will support States in administering high-quality and effective IDEA Part C early intervention and Part B preschool programs through TA and recommendations for practice.

In recent years, States have faced a growing number of challenges as they implement the IDEA Part C early intervention and Part B preschool programs. In addition to the economic and fiscal challenges at the State and local levels, States are seeing an increase in the number of infants, toddlers, and preschool children with complex needs who are eligible for services under IDEA Part C early intervention and Part B preschool programs (Part C State Performance Plan (SPP)/Annual Performance Report (APR) 2011 Indicator Analyses, FFY 2009-10; Part B SPP/APR 2011 Indicator Analyses, FFY 2009-10). Moreover, given the complexity of and interplay between these programs, many States struggle with difficult systems issues, such as: (1) Ensuring that all children eligible for services under Part C of IDEA are identified and evaluated or screened; (2) maximizing all available funding sources for IDEA Part C services; (3) improving transition services for children who are first served under an IDEA Part C program and then receive IDEA Part B preschool services; (4) collecting valid and reliable child and family outcome data under IDEA Part C early intervention and Part B preschool programs to inform program improvement; and (5) coordinating with other early childhood programs (Infant and Toddler Coordinators Association Tipping Points Survey, 2011; Part C SPP/APR 2011 Indicator Analyses, FFY 2009-10; Part B SPP/APR 2011 Indicator Analyses, FFY 2009-10).

To meet the challenges of implementing IDEA Part C early intervention and Part B preschool programs, program administrators must understand the elements that are necessary to implement high-quality early intervention and preschool programs effectively and efficiently. Ensuring that Part C early intervention and Part B preschool programs are coordinating with other early childhood programs in a State is one such element that could increase a program's effectiveness and efficiency. However, developing a coordinated and integrated early childhood system within a State is a significant challenge because there are multiple early childhood programs (e.g., IDEA Part C early intervention; IDEA Part B preschool; Head Start; Early Head Start; child care; State-funded Pre-K programs) administered by different agencies with different policies, procedures, and funding streams, and infants, toddlers, and preschool children with disabilities are often served by more than one of these programs at a time. Overcoming this overarching challenge to provide a coordinated and integrated early childhood system is critical to ensuring that infants, toddlers, and preschool children with disabilities and their families receive high-quality services from the array of early childhood programs that are available to serve them. As States continue to work towards designing and implementing a coordinated and integrated system of early childhood programs and services through such initiatives as the Race To the Top—Early Learning Challenge (RTT-ELC), it is critical that support be provided to the IDEA Part C early intervention and Part B preschool programs to assist them in aligning resources and policies across multiple levels (e.g., State, regional, local) of the early childhood service system. Such support would help these programs reduce inefficiencies across early childhood programs, and improve the quality of services for infants, toddlers, and preschool children with disabilities and their families.

A challenge at the local program level is the lack of adequately trained personnel who can implement effective services and evidence-based interventions, suggesting that infants, toddlers, and preschool children with disabilities may not be achieving the learning and developmental outcomes that are possible (Bruder, 2010; Odom, 2009). In surveys of State Part C and Part B, Section 619 Coordinators, respondents have expressed concern that personnel who work with infants, toddlers, and preschool children with disabilities and their families are not adequately trained (Bruder, Mogro-Wilson, Stayton, & Dietrich, 2009). Furthermore, although the Division of Early Childhood of the Council for Exceptional Children's (DEC) recommended practices for personnel working with infants, toddlers, and preschool children with disabilities and their families is a valuable resource on intervention practices used by the field, that resource needs to be updated to include current research on implementing high-quality, coordinated, and integrated early childhood systems; effective services; and evidence-based interventions.

IDEA Part C early intervention and Part B, Section 619 program administrators must ensure that their programs and providers are delivering effective services and evidence-based interventions. To do so, States must have “implementation components” in place at the State and local levels to support providers in using effective services and evidence-based interventions. “Implementation components” are the organizational supports that allow providers to develop the competence needed to implement effective services and evidence-based interventions in the way they were designed to be delivered (Fixsen, Blasé, Horner, & Sugai, 2009). Examples of implementation components include professional development and training, ongoing consultation and coaching, performance assessments, data systems to support decision making, administrative support to ensure personnel have the resources and skills they need to implement interventions, and systems that align policies and funding mechanisms across multiple levels (e.g., State, regional, local) (Fixsen et al., 2009). Once implementation components are in place and the system's capacity to implement effective services and evidence-based interventions is established, the State will be better equipped to implement, scale up, and sustain a range of effective services and evidence-based interventions across multiple programs (Fixsen et al., 2009).

Establishing high-quality, effective and efficient IDEA Part C early intervention and Part B preschool programs that are coordinated and integrated with other early childhood programs and that have the capacity to support providers in implementing effective services and evidence-based interventions for infants, toddlers, and preschool children with disabilities and their families, requires changes to a State's early childhood services system at multiple levels. TA has been identified as a strategy to facilitate these changes (Blasé, 2009). Recognizing the complexity of systems change, particularly with respect to a system as complex as the system of services through which early childhood services are provided, intensive TA is needed at the State level so that a State can overcome challenges and support local early childhood programs in delivering evidence-based, high-quality, effective, coordinated, and integrated services and interventions to improve developmental and learning outcomes for infants, toddlers, and preschool children with disabilities and their families.

Priority: Under this priority, the Department will fund a cooperative agreement to establish and operate an Early Childhood Technical Assistance Center (Center) to support States in administering IDEA Part C early intervention and Part B preschool programs. Specifically, the Center will provide TA to States to assist them in: (1) Implementing high-quality, effective, and efficient IDEA Part C early intervention and Part B preschool programs; (2) coordinating the IDEA Part C early intervention and Part B preschool programs with one another as well as with other early childhood programs in the State; and (3) implementing effective services and evidence-based interventions in early childhood programs that result in positive developmental and learning outcomes for infants, toddlers, and preschool children with disabilities and their families.

In addition, the Center will develop a set of empirically supported recommendations for practice on: (1) Policies that promote a high-quality, coordinated, and integrated system of early childhood programs; and (2) services and interventions that result in positive developmental and learning outcomes for infants, toddlers, and preschool children with disabilities and their families.

With additional funding in years two through five, the Center will increase its scope of work and assist States in continued development and refinement of the State's child and family outcomes measurement systems for the IDEA Part C early intervention and Part B preschool programs.

To be considered for funding under this absolute priority, applicants must meet the application requirements contained in this priority. Any project funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web sites provide more information on logic models: www.researchutilization.org/matrix/logicmodel_resource3c.html and www.tadnet.org/model_and_performance.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services. This plan must include how the Center will collect data on all components of the Center activities;

(d) A budget for a summative evaluation to be conducted by an independent third party, who must be approved by OSEP;

(e) A budget dedicating a minimum of $300,000 in year one of the project to cover the costs of carrying out the tasks described in paragraph (d) of the Knowledge Development Activities section of this priority;

(f) A budget dedicating a minimum of $900,000 annually to cover the costs of carrying out tasks in paragraph (e) of the Knowledge Development Activities section of this priority and paragraphs (a)(1)(i)(E), (a)(2)(vi), (a)(3)(iii), and (b) in the Technical Assistance and Dissemination Activities section of this priority related to supporting the implementation of effective services and evidence-based interventions that result in positive developmental and learning outcomes for infants, toddlers, and preschool children with disabilities and their families;

(g) A budget for attendance at the following:

(1) A two-day kick-off meeting to be held in Washington, DC, after receipt of the award, and an annual planning meeting held in Washington, DC, with the OSEP Project Officer during each subsequent year of the project period.

Note: Within 30 days of receipt of the award, a post-award teleconference must be held between the OSEP Project Officer and the grantee's Project Director or other authorized representative.

(2) A three-day Project Directors' Conference in Washington, DC, during each year of the project period.

(3) A two-day Leveraging Resources conference in Washington, DC, during each year of the project period.

(4) A three-day Leadership Conference in Washington, DC, during each year of the project period.

(5) Two two-day trips annually to attend Department briefings, Department-sponsored conferences, and other meetings, as requested by OSEP; and

(h) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities

(a) In the first three months of the project period, identify a minimum of six States to partner with to develop a framework ¹ for high-quality, effective, and efficient IDEA Part C early intervention and Part B preschool programs. Each partnering State must have commitments from its IDEA Part C early intervention and Part B preschool programs to participate in the activities of the Center. Factors for consideration in selecting these States could include the type of State lead agency designated to implement IDEA Part C (e.g., health or education); funding mechanisms (use of private and public insurance, family fees, or parent cost participation to pay for IDEA Part C services, and State fund contributions for IDEA Part C and Part B preschool programs); interagency collaboration agreements; eligibility criteria for IDEA Part C (e.g., narrow versus broad eligibility for IDEA services for children with developmental delays or at-risk children or birth-mandate States); staffing of programs (e.g., contracting versus hiring staff); approach to services (multidisciplinary, transdisciplinary, etc.); recipient of an RTT-ELC grant; and performance on APRs. The Center must obtain approval from OSEP on the final selection of partnering States.

¹ For the purposes of this priority, “framework” means a guide for decision making.

(b) In the first two years of the project period, partner with the States identified in response to paragraph (a) of this section to develop, implement, and evaluate a framework for high-quality, effective, and efficient IDEA Part C early intervention and Part B preschool programs. In developing this framework, the Center must work with its partner States to identify, describe, and document the elements that make up IDEA Part C and Part B preschool programs and describe what must exist within each element to create high-quality, effective, and efficient programs. These elements must include, but are not limited to, the following: Governance structure; funding mechanism; interagency agreements and coordination; service delivery model; personnel standards and qualifications; professional development system; TA system; comprehensive data system; accountability and outcome measurement system; and evaluation and program quality and improvement system. The Center must implement an iterative process for the development, implementation, and evaluation of the framework where parts of it are developed, implemented, and evaluated before the entire framework is completed, ensuring that it is an effective framework for the partner States and other States to use.

(c) On an annual basis, compile and analyze data on all States' APRs and updated SPPs for IDEA Part C indicators and Part B indicators that relate to preschool programs, provide an analysis of States' success in meeting compliance and performance indicators, and use the analysis as the basis for providing States a continuum of TA.

(d) In year one of the project, collaborate with the DEC to update the current set of DEC recommended practices related to: (1) Policies that promote a high-quality, coordinated, and integrated early childhood system and provide a foundation necessary to facilitate the use of recommended practices by providers serving infants, toddlers, and preschool children with disabilities and their families; and (2) effective services and evidence-based interventions that result in positive developmental and learning outcomes for infants, toddlers, and preschool children with disabilities and their families. The Center must work with the Early Childhood Personnel Center (that will be updating the DEC's recommended practices related to professional development), if funded by OSEP, to finalize the process to update the recommended practices so that they reflect current research. The recommended practices must be made available at no cost to consumers on the Center's Web site, as required under paragraph (a)(1)(i) in the Technical Assistance and Dissemination Activities section of this priority.

(e) Identify, document, and describe the implementation components needed to support the use and sustainability of effective services and evidence-based interventions in early childhood programs that serve infants, toddlers, and preschool children with disabilities and their families, consistent with paragraph (a)(3)(iii)(B) of the Technical Assistance and Dissemination Activities section of this priority.

Technical Assistance and Dissemination Activities

(a) Provide a continuum of TA and dissemination activities that improve the quality, effectiveness, and efficiency of early childhood programs that support the use of effective services and evidence-based interventions that result in positive developmental and learning outcomes for infants, toddlers, and preschool children with disabilities and their families. The continuum must include the following:

(1) General TA to States, early childhood programs, professional development providers, faculty at institutions of higher education (IHEs), researchers, early childhood personnel, families, and other relevant stakeholders. At a minimum, the Center must conduct the following activities:

(i) Develop and disseminate reports, products, guidance, implementation tools, and other materials at no cost to the consumer on:

(A) Current recommendations for practice related to—

(1) Policies that promote a high-quality, coordinated, and integrated early childhood system and provide a foundation necessary for providers to use the recommended practices to serve infants, toddlers, and preschool children with disabilities and their families; and

(2) Effective services and evidence-based interventions that result in positive developmental and learning outcomes for infants, toddlers, and preschool children with disabilities and their families.

(B) The framework for high-quality, effective, and efficient IDEA Part C and Part B preschool programs.

(C) The analysis of all State data collected for IDEA Part C indicators that relate to early intervention programs and Part B indicators that relate to preschool programs.

(D) Collecting quality child and family outcome data, and using child and family outcome data for program improvement.

(E) Critical features of the implementation components needed to support the use, scaling up, and sustainability of effective services and evidence-based interventions in early childhood programs at the State and local program levels.

(ii) Maintain a Web site that meets government or industry-recognized standards for accessibility and that links to the Web site operated by the Technical Assistance Coordination Center (TACC).

(iii) In consultation with the OSEP Project Officer, make selected reports, documents, and other materials available in both English and Spanish.

(2) Targeted TA to States and other relevant stakeholders to improve their capacity to implement high-quality, effective, and efficient IDEA Part C early intervention and Part B preschool programs and to support the use of effective services and evidence-based interventions in early childhood programs at the local level. At a minimum, the Center must conduct the following activities:

(i) Assist States in preparing for IDEA Part C early intervention and Part B preschool monitoring and accountability activities related to serving infants, toddlers, and preschool children with disabilities and their families and implementing the State's corrective action plan and improvement activities as appropriate.

(ii) Assist States in meeting IDEA Part C early intervention and Part B preschool program indicator targets in their SPPs when reporting data on their APRs, including child and family outcome data for program improvement; and meeting new requirements in the IDEA Part C regulations issued on September 28, 2011 (76 FR 60140).

(iii) Plan and implement activities, which could include webinars, meetings, video conferences, and Web sites to support States in the continued development and refinement of a child and family outcomes measurement system, including using data for IDEA Part C early intervention and Part B preschool program improvement.

(iv) Assist States in their efforts to better coordinate their early childhood programs to ensure that infants, toddlers, and preschool children with disabilities and their families receive high-quality services and to scale up and sustain effective implementation components in early childhood programs.

(v) Provide a forum for researchers, professional development providers, early childhood personnel, IHE faculty, and other relevant stakeholders to collaborate through learning communities, communities of practice, or other mechanisms to discuss recommended practices related to high-quality early childhood systems, effective services, and evidenced-based interventions in early childhood programs and methods to support their use.

(3) Intensive TA to States to improve their capacity to implement high-quality, effective, and efficient early childhood programs that serve infants, toddlers, and preschool children with disabilities and their families and scale up and sustain effective implementation components to support the use of effective services and evidence-based interventions in early childhood programs at the local level. At a minimum, the Center must conduct the following activities:

(i) Provide TA to States on implementing the framework for high-quality, effective, and efficient IDEA Part C early intervention and Part B preschool programs developed under paragraph (a) in the Knowledge Development Activities section of this priority in the first and second years of the project period.

(ii) In years two through five of the project period, provide TA to States on implementing a high-quality child and family outcomes measurement system that takes into account the following components: purpose of the outcomes measurement system, data collection and transmission, data analysis, reporting, using data, evaluation, and cross-system coordination. In carrying out this activity, the Center must collaborate with the Early Childhood Data Center, if funded by OSEP, to prevent duplication of effort.

(iii) Select a minimum of four States to build their capacity to scale up and sustain effective implementation components to support the use of effective services and evidence-based interventions at the local early childhood program level. The Center must develop a plan and criteria for selecting the States with which they will work. Factors for selecting States for consideration could include the State's early childhood priorities and initiatives; the commitment of the State's multiple early childhood programs to participate in the TA to support the developmental and learning outcomes of infants, toddlers, and preschool children with disabilities and their families; the commitment of the State's IHEs, including community colleges, to prepare preservice personnel on the use of the evidence-based interventions that may be scaled up within the State; the commitment of the early intervention and community-based early childhood programs in high-need communities and high-need local educational agencies (LEAs) ² to participate in the TA; and the demographic and geographic characteristics of each State, including the percentage of young children who are high-need children with disabilities.³ The Center must obtain approval from OSEP on the final selection of States. At a minimum, the Center must conduct the following activities with the selected States:

² For the purposes of this priority, the term “high-need local educational agency” means an LEA (a) that serves not fewer than 10,000 children from families with incomes below the poverty line; or (b) for which not less than 20 percent of the children served by the LEA are from families with incomes below the poverty line.

³ For the purposes of this priority, “high-need children with disabilities” refers to children (ages birth through 5) who are eligible for services under IDEA, and who may be further disadvantaged and at risk of educational failure because they: (1) Are living in poverty, (2) are homeless, (3) are in foster care, (4) are English learners, (5) are new immigrants, or (6) are migrant.

(A) Assist the selected States in identifying effective services and evidence-based interventions for infants, toddlers, and preschool children with disabilities and their families that the States will implement and scale up. Based on the interventions and services identified, the Center must support the implementation and scale up of the interventions and services through direct TA or by contracting with experts in the field.

(B) Assist each selected State to identify and establish a minimum of six implementation sites in early childhood programs at the local level to identify, document, and describe implementation components and their effectiveness. The Center must develop criteria for selecting the implementation sites. These criteria must be designed to ensure that the sites serve children from diverse backgrounds in a variety of settings, including early intervention and community-based early childhood programs in high-need LEAs.

(C) Assist each selected State in developing, implementing, and evaluating a plan to scale up and sustain effective implementation components to support the use of effective services and evidence-based interventions across local early childhood programs within each State, including early intervention and community-based early childhood programs in high-need LEAs.

(b) Establish a national TA network of a cadre of experts on implementation that will support the Center to provide TA to States and local early childhood programs to strengthen their capacity to scale up and sustain effective implementation components.

Leadership and Coordination Activities

(a) Communicate and collaborate, on an ongoing basis, with OSEP-funded TA projects, including the TACC, the Regional Resource Centers Program, and early childhood-focused centers funded by the Departments of Education and Health and Human Services (HHS), as appropriate. This collaboration could include the joint development of products, the coordination of TA services, and the planning and carrying out of TA meetings and events.

(b) Lead the Early Childhood Technical Assistance Consortium (ECTA).⁴ The following Web site provides more information on ECTA: www.ectaconsortium.org/.

⁴ The ECTA Consortium includes national projects that are funded by the Departments of Education and Health and Human Services that provide TA in support of States' efforts in building coordinated early learning and development systems. The purpose of the consortium is to: coordinate early childhood TA efforts that support States in building and sustaining their systems for early learning and development; share knowledge and resources for improving the delivery and impact of TA; identify strategies for working collaboratively; enhance each other's TA efforts; and explore options to leverage resources to benefit respective constituencies.

(c) Work with other Federal and State TA efforts to ensure that IDEA Part C early intervention and Part B preschool programs are considered in the development of coordinated early learning and development systems for children ages birth through five and their families. These efforts must include—

(1) In States with RTT-ELC grants, supporting the involvement of IDEA Part C early intervention and Part B preschool programs in planning and implementing RTT-ELC grant activities; and

(2) Supporting the participation of IDEA Part C early intervention and Part B, Section 619 Coordinators on State Advisory Councils on Early Childhood Education and Care.

(d) Work with other Federal and State TA efforts to strengthen linkages between IDEA Part C early intervention and Part B preschool programs and birth through 3rd grade initiatives.

(e) Consult with a group of persons, including representatives from State and local IDEA Part C early intervention and Part B preschool programs; State level administrators from other early child systems (e.g., State Child Care Administrators and Head Start Collaboration Directors); early childhood personnel; parents of infants, toddlers, or preschool children with disabilities; representatives from other OSEP-funded TA projects; representatives from HHS-funded TA projects; faculty in personnel preparation; and researchers, as appropriate, on the activities and outcomes of the Center and solicit programmatic support and advice from various participants in the group, as appropriate. The Center may convene meetings, whether in person, by phone or other means, for this purpose, or may consult with group participants individually. The Center must identify the members of the group to OSEP within eight weeks after receipt of the award.

(f) Prior to developing any new product, submit a proposal for the product to the TACC database for approval from the OSEP Project Officer. The development of new products must be consistent with the product definition and guidelines posted on the TACC Web site (www.tadnet.org).

(g) Contribute, on an ongoing basis, updated information on the Center's approved and finalized products and services to a database at TACC.

(h) Maintain ongoing communication with the OSEP Project Officer through monthly phone conversations and email communication.

Fourth and Fifth Years of Project

In deciding whether to continue funding the Center for the fourth and fifth years, the Secretary will consider the requirements of 34 CFR 75.253(a) and in addition—

(a) The recommendation of a review team consisting of experts selected by the Secretary. This review team will be conducted during a one-day intensive meeting in Washington, DC, during the last half of the project's second year. The Center must budget for travel expenses associated with this one-day intensive review.

(b) The timeliness and effectiveness with which all requirements of the negotiated cooperative agreement have been or are being met by the Center; and

(c) The quality, relevance, and usefulness of the Center's activities and the degree to which the Center's activities have contributed to changed practices in State systems and improved developmental and learning outcomes for infants, toddlers and preschool children with disabilities and their families.

References

Blase, K. (2009). Technical Assistance to Promote Service and System Change. Roadmap to Effective Intervention Interventions #4. Tampa, FL: University of South Florida, Technical Assistance Center on Social Emotional Intervention for Young Children.

Bruder, M.B. (2010). Early childhood intervention: A promise to children and families for their future. Exceptional Children, 76(3), 339-355.

Bruder, M.B., Mogro-Wilson, C., Stayton, V., and Dietrich, S. (2009). The national status of in-service professional development systems for early intervention and early childhood special education practitioners. Infants and Young Children, 22(1), 13-20.

Fixsen, D.L., Blase, K.A., Horner, R., & Sugai, G. (2009). Developing the capacity for scaling up the effective use of evidence-based programs in state departments of education. Chapel Hill, NC: The University of North Carolina at Chapel Hill, FPG Child Development Institute, SISEP.

Infant & Toddler Coordinators Association. (2011). ITCA 2011 Tipping Points Survey—Part C implementation: State Challenges and Responses. Retrieved from www.ideainfanttoddler.org/board_surveys.htm.

Odom, S. (2009). The tie that binds: Evidence-based practice, implementation science, and outcomes for children. Topics in Early Childhood Special Education, 29(1), 53-61.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463, and 1481.

Applicable Regulations: (a) The Education Department General Administrative Regulations (EDGAR) in 34 CFR parts 74, 75, 77, 79, 80, 81, 82, 84, 86, 97, 98, and 99. (b) The Education Department debarment and suspension regulations in 2 CFR part 3485.

Note: The regulations in 34 CFR part 79 apply to all applicants except federally recognized Indian tribes.

Note: The regulations in 34 CFR part 86 apply to IHEs only.

II. Award Information

Type of Award: Cooperative agreement.

Estimated Available Funds: $3,700,000 for the competition announced in this notice for year one. In year two through five we intend to use an estimated $4,500,000 for the competition.

Contingent upon the availability of funds and the quality of applications, we may make additional awards in FY 2013 from the list of unfunded applicants from this competition.

Maximum Awards: We will reject any application that proposes a budget exceeding $3,700,000 for a single budget period of 12 months in year one and $4,500,000 for a single budget period of 12 months in years two through five. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36 month award and the 24 month extension.

III. Eligibility Information

1. Eligible Applicants: State educational agencies; LEAs, including public charter schools that are considered LEAs under State law; IDEA Part C State lead agencies; the State lead agency designated under RTT-ELC; IHEs; other public agencies; private nonprofit organizations; outlying areas; freely associated States; Indian tribes or tribal organizations; and for-profit organizations.

2. Cost Sharing or Matching: This competition does not require cost sharing or matching.

3. Other: General Requirements—(a) The project funded under this competition must make positive efforts to employ and advance in employment qualified individuals with disabilities (see section 606 of IDEA).

(b) Applicants and the grant recipient funded under this competition must involve individuals with disabilities or parents of individuals with disabilities ages birth through 26 in planning, implementing, and evaluating the projects (see section 682(a)(1)(A) of IDEA).

IV. Application and Submission Information

1. Address to Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. Fax: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.326P.

To obtain a copy from the program office, contact the person listed under FOR FURTHER INFORMATION CONTACT in section VII of this notice.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit the application narrative to the equivalent of no more than 70 pages, using the following standards:

• A “page” is 8.5″ x 11′, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: June 19, 2012.

Deadline for Transmittal of Applications: July 19, 2012.

Applications for grants under this competition may be submitted electronically using the Grants.gov Apply site (Grants.gov), or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp).

7. Other Submission Requirements: Applications for grants under this competition may be submitted electronically or in paper format by mail or hand delivery.

a. Electronic Submission of Applications.

We are participating as a partner in the Governmentwide Grants.gov Apply site. The Early Childhood Technical Assistance Center competition, CFDA number 84.326P, is included in this project. We request your participation in Grants.gov.

If you choose to submit your application electronically, you must use the Governmentwide Grants.gov Apply site at www.Grants.gov. Through this site, you will be able to download a copy of the application package, complete it offline, and then upload and submit your application. You may not email an electronic copy of a grant application to us.

You may access the electronic grant application for the Early Childhood Technical Assistance Center competition at www.Grants.gov. You must search for the downloadable application package for this competition by the CFDA number. Do not include the CFDA number's alpha suffix in your search (e.g., search for 84.326, not 84.326P).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.326P), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: the U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326P), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. These measures focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Julia Martin Eile, U.S. Department of Education, 400 Maryland Avenue SW., Room 4056, Potomac Center Plaza (PCP), Washington, DC 20202-2600. Telephone: (202) 245-7431.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 13, 2012.
Alexa Posny,
Assistant Secretary for Special Education and Rehabilitative Services.

[FR Doc. 2012-14942 Filed 6-18-12; 8:45 am]

BILLING CODE 4000-01-P